DEPARTMENT OF HEALTH AND HUMAN SERVICES

Health Resources and Services Administration

Agency Information Collection Activities: Proposed Collection: Comment Request

In compliance with the requirement for opportunity for public comment on proposed data collection projects (section 3506(c)(2)(A) of title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Health Care Infrastructure Application Forms for Funding Opportunities—New

HRSA Safety Net programs, including the Consolidated Health Center (CHC) Program and the Healthy Communities Access Program (HCAP), are administered by HRSA's Bureau of Primary Health Care (BPHC). HRSA/BPHC is committed to assisting communities in the development of integrated and comprehensive health care delivery systems which will improve the effectiveness, efficiency, and coordination of services for uninsured and underinsured individuals, resulting in higher quality care for these populations at less cost.

Grant funding opportunities are provided to Health Centers to support: The integration and coordination of primary, hospital and specialty care; the enhancement of the network and the health centers ability to compete in the marketplace; and the strategic alignment of health center information systems and technology infrastructures to integrate uniform clinical information with business systems.

BPHC will assist in achieving this new health center infrastructure through various funding opportunities. Application forms are used by new and current Health Centers through, (1) Health Center Network Planning and Development (HCNPD) which includes, Integrated Service Development Initiative (ISDI), Shared Integrated Management Information System (SIMIS), Integrated Information and Communication Technology (ICT), (2) Healthy Communities Access Program (HCAP), and (3) Operational Health Center Networks (OHCN) which include the ISDI and Pharmacy Networks.

Estimates of annualized reporting burden are as follows:

Type of application form | Number of respondents | Hours per response | Total burden hours
HCNPD | 35 |  | 1575
ISDI | 7 | 45 | 315
SIMIS | 7 | 45 | 315
ICT | 9 | 45 | 405
Pharmacy Networks | 12 | 45 | 540
HCAP | 242 |  | 10,890
OHCN | 37 |  | 1,665
Pharmacy Networks | 20 | 45 | 900
ISDI | 17 | 45 | 765
Total | 314 |  | 14,130

Send comments to Susan G. Queen, Ph.D., HRSA Reports Clearance Officer, Room 14-45, Parklawn Building, 5600 Fishers Lane, Rockville, MD 20857. Written comments should be received within 60 days of this notice.

Dated: December 10, 2003.
Tina M. Cheatham,
Acting Director, Division of Policy Review and Coordination.

[FR Doc. 03-31051 Filed 12-16-03; 8:45 am]

BILLING CODE 4165-15-P